DEPARTMENT OF COMMERCE

National Oceanic and Atmospheric Administration

Proposed Information Collection; Comment Request; Inventory of U.S. Marine Protected Areas: Site Characteristics and Human Uses; Correction

AGENCY: National Oceanic and Atmospheric Administration, Commerce.

ACTION: Notice; correction.

SUMMARY: The Department of Commerce published a document in the Federal Register of February 2, 2015, concerning request for comments on a proposed information collection under the Paperwork Reduction Act, OMB Control No. 0648-0449. The document contained incorrect dates.

FOR FURTHER INFORMATION CONTACT: Dr. Charles M. Wahle, Senior Scientist, NOAA's National Marine Protected Areas Center, via email at charles.wahle@noaa.gov, or by telephone: (831) 647-6460.

SUPPLEMENTARY INFORMATION:

I. Correction

In the Federal Register of February 2, 2015, Vol. 80, No. 21, on page 5515, in the third column, correct the “Dates” caption to read: “DATES: Written comments must be submitted on or before April 3, 2015”.

Dated: February 5, 2015.
Glenna Mickelson,
Management Analyst, Office of the Chief Information Officer.

[FR Doc. 2015-02741 Filed 2-10-15; 8:45 am]

BILLING CODE 3510-NK-P